DEPARTMENT OF THE INTERIOR

Fish and Wildlife Service

Environmental Impact Statement for a Proposed Land Exchange in Yukon Flats National Wildlife Refuge, AK

AGENCY: Fish and Wildlife Service, Interior.

ACTION: Notice of public scoping meeting schedule.

SUMMARY: We, the Fish and Wildlife Service (FWS), plan to hold public scoping meetings to help us prepare an Environmental Impact Statement (EIS) under the National Environmental Policy Act of 1969 for a proposed land exchange within the Yukon Flats National Wildlife Refuge in Alaska. In our earlier notice of intent to prepare this EIS, we announced that scoping meetings would be held in February. However, we have extended the meeting schedule through early April. With this notice, we announce meeting dates and ask the public for suggestions and comments on the scope of issues to be addressed in our EIS.

DATES: The meeting dates are:

• April 3, 2006: Open house, 3-8 p.m., Fairbanks

• April 4, 2006: Open house, 3-8 p.m., Anchorage

• To be announced: We will also hold scoping meetings in the communities of Arctic Village, Beaver, Birch Creek, Central, Chalkyitsik, Circle, Fort Yukon, Stevens Village, and Venetie. However, the schedule for these meetings will be highly dependent on local weather conditions and other village activities and commitments. Dates and times for these meetings will be announced locally.

Comment period end date: We will accept public scoping comments received on or before April 15, 2006.

ADDRESSES: Meeting addresses:

Anchorage: FWS Regional Office, 1011 East Tudor Road.

Fairbanks: Noel Wien Library. 1215 Cowles Street.

Address comments or questions to Cyndie Wolfe, Project Coordinator, U.S. Fish and Wildlife Service, 1011 East Tudor Road, MS-231, Anchorage, AK 99503. Comment forms and project information are available on the project Web site at: http://yukonflatseis.ensr.com. The comment form may be used to submit comments electronically on the project Web site.

FOR FURTHER INFORMATION CONTACT: Cyndie Wolfe, Project Coordinator, 907-786-3463.

SUPPLEMENTARY INFORMATION: We plan to hold public scoping meetings to help us prepare an EIS under the National Environmental Policy Act of 1969 (42 U.S.C. 4321-4370d) and its implementing regulations for a proposed land exchange and acquisition of certain lands owned by Doyon, Limited within the Yukon Flats National Wildlife Refuge in Alaska. In our earlier notice of intent to prepare this EIS (70 FR 60845, October 19, 2005), we said that we would soon announce February 2006 dates for scoping meetings. However, we have extended the timeframe for those meetings to early April 2006. With this notice, we announce scheduled meeting dates and ask the public for suggestions and information on the scope of issues to be addressed in our EIS. We will accept comments received on or before April 15, 2006. For more information about the proposed land exchange, please see our earlier notice (70 FR 60845) or visit our project Web site at http://yukonflatseis.ensr.com. The draft EIS, tentatively scheduled for release in February 2007, will also be available for viewing and downloading at this URL.

We will schedule additional public meetings to discuss the draft EIS. We also plan to use special mailings, newspaper articles, and other media releases to announce opportunities for the public to provide written and oral input.

Dated: February 15, 2006.
Rowan Gould,
Regional Director, U.S. Fish and Wildlife Service, Anchorage, Alaska.

[FR Doc. E6-3026 Filed 3-2-06; 8:45 am]

BILLING CODE 4310-55-P